DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection, titled the Small Business Innovation Research (SBIR) and Small Business Technology Transfer (STTR) Commercialization Survey will satisfy the program requirements of the Small Business Act, including requirements established in the SBIR program reauthorization legislation. DOE will collect the survey data via web-enabled software and provide it to the Small Business Administration (SBA) to maintain information about the DOE SBIR/STTR awards issued through the two programs. This data will be provided by DOE based on information collected from SBIR/STTR awardees. This data will be used by DOE, SBA, and Congress to assess the commercial impact of these two programs. If you anticipate that you will be submitting comments, but find it difficult to do so within the period of time allowed by this notice, please advise the DOE Desk Officer at OMB of your intention to make a submission as soon as possible. The Desk Officer may be telephoned at 202-395-1254 or emailed at james.n.tyree@omb.eop.gov.

DATES: Comments regarding this proposed information collection must be received on or before June 21, 2018. If you anticipate difficulty in submitting comments within that period, contact the person listed in ADDRESSES as soon as possible.

ADDRESSES: Written comments should be sent to the DOE Desk Officer, Office of Information and Regulatory Affairs, Office of Management and Budget, New Executive Office Building, Room 10102, 735 17th Street NW, Washington, DC 20503

And to: Claudia Cantoni, SBIR/STTR Programs Manager, U.S. Department of Energy, 19901 Germantown Road, Germantown, MD 20874-1290 or by email at claudia.cantoni@science.doe.gov or by fax at (301) 903-5488.

FOR FURTHER INFORMATION CONTACT: Requests for additional information or copies of the information collection instrument and instructions should be directed to Claudia Cantoni by email at claudia.cantoni@science.doe.gov or by fax at (301) 903-5488.

SUPPLEMENTARY INFORMATION: This information collection request contains: (1) OMB No. 1910-5166; (2) Information Collection Request Title: Small Business Innovation Research (SBIR) and Small Business Technology Transfer (STTR) Commercialization Survey; (3) Type of Request: Three year extension; (4) Purpose: The DOE needs this information to satisfy the program requirements of the Small Business Act, including requirements established in the SBIR program reauthorization legislation, Public Law 106-554 and Public Law 107-50. This data will be collected by the DOE and provided to the Small Business Administration (SBA) to maintain information about SBIR/STTR awards issued through the two programs. This data will be provided by DOE based on information collected from SBIR/STTR awardees. This data will be used by DOE, SBA, and Congress to assess the commercial impact of these two programs; (5) Annual

Estimated Number of Respondents: 2,500; (6) Annual Estimated Number of Total Responses: 2,500; (7) Annual Estimated Number of Burden Hours: 2,500; (8) Annual Estimated Reporting and Recordkeeping Cost Burden: $120,000.

Statutory Authority: Section 9 of the Small Business Act, as amended, codified at 15 U.S.C. 638(g).

Issued in Washington, DC, on May 2, 2018.
Manny Oliver,
SBIR/STTR Programs Director, Office of Science, U.S. Department of Energy.

[FR Doc. 2018-10874 Filed 5-21-18; 8:45 am]

BILLING CODE 6450-01-P